DEPARTMENT OF HOUSING AND URBAN DEVELOPMENT

[Docket No. FR-5383-N-07]

Notice of Proposed Information Collection for Public Comment for Housing Choice Voucher (HCV) Family Self-Sufficiency (FSS) Program

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: June 14, 2010.

ADDRESSES: Interested persons are invited to submit comments regarding this proposal. Comments should refer to the proposal by name/or OMB Control number and should be sent to: Leroy McKinney, Jr., Departmental Reports Management Officer, QDAM, Department of Housing and Urban Development, 451 7th Street, SW., Room 4178, Washington, DC 20410-5000; telephone 202.402.8048, (this is not a toll-free number) or e-mail Mr. McKinney at Leroy.McKinneyJr@hud.gov for a copy of the proposed forms, or other available information. Persons with hearing or speech impairments may access this number through TTY by calling the toll-free Federal Information Relay Service at (800) 877-8339. (Other than the HUD USER information line and TTY numbers, telephone numbers are not toll-free.)

FOR FURTHER INFORMATION CONTACT: Dacia Rogers, Office of Policy, Programs and Legislative Initiatives, PIH, Department of Housing and Urban Development, 451 7th Street, SW., Room 4116, Washington, DC 20410; telephone 202-402-3374, (this is not a toll-free number).

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice also lists the following information:

Title of Proposal: Housing Choice Voucher (HCV) Family Self-Sufficiency (FSS) Program.

OMB Control Number: 2577-0178.

Description of the Need for the Information and Proposed Use: The FSS program, which was established in the National Affordable Housing Act of 1990, promotes the development of local strategies that coordinate the use of public housing assistance and assistance under the Section 8 rental certificate and voucher programs (now known as the Housing Choice Voucher Program) with public and private resources to enable eligible families to achieve economic independence and self-sufficiency. Housing agencies consult with local officials to develop an Action Plan; enter into a Contract of Participation with each eligible family that opts to participate in the program; compute an escrow credit for the family, report annually to HUD on implementation of the FSS program, and complete a funding application for the salary of an FSS program coordinator.

Agency form numbers: HUD-52650, HUD-52651, HUD-52652, HUD-50058, HUD-96011, HUD-2880, HUD-2994-A, HUD-2991.

Members of the Affected Public: Public housing agencies, State or Local Government.

Estimation Including the Total Number of Hours Needed To Prepare the Information Collection for the Number of Respondents, Frequency of Response, and Hours of Response:

Description of information collection | Number of respondents | Responses per year | Total annual responses | Hrs per response | Total hours
SF424 | 750 | 1 | 750 | 0.75 | 562.5
SF LLL | 10 | 1 | 10 | 0.17 | 1.7
HUD 2880 (OMB no. 2510-0011) | 750 | 1 | 750 | 0 | *0
HUD 96011 (OMB no. 2535-0118) | 750 | 1 | 750 | 0 | *0
HUD-2991 Certification | 750 | 1 | 750 | 0 | *0
HUD-2994-A (OMB no. 2535-0116) | 750 | 1 | 750 | 0 | *0
FSS Application, HUD-52651 | 750 | 1 | 750 | 0.75 | 563
Affirmatively Furthering Fair Housing Statement | 750 | 1 | 750 | .5 | 375
Subtotal (Application) | 750 | 1 | 750 | 2.17 | 1502.2
Action Plan | 5 | 1 | 5 | 40 | 200
Contract of Participation HUD-52650 | 750 | 10 | 7,500 | .25 | 1,875
Escrow Account Credit Worksheet HUD-52652 | 750 | 50 | 37,500 | .85 | 31,875
Annual Report (Narrative) | 750 | 1 | 750 | 1 | 750
HUD-50058 (OMB no. 2577-0083) | 750 | 50 | 37,500 | 0 | *0
Subtotal (Program Reporting/Recordkeeping) | 750 | Varies | 45,755 | 42.1 | 34,700
Total | 750 | Varies | 46,505 | 44.27 | 36,202.2
* Burden hours for forms showing zero burden hours in this collection are reflected in the OMB approval number cited or do not have a reportable burden. The burden hours for this collection have not changed since the last submission to OMB.

Status of the Proposed Information Collection: Extension of currently approved collection.

Authority: Section 3506 of the Paperwork Reduction Act of 1995, 44 U.S.C. Chapter 35, as amended.

Dated: April 7, 2010.
Merrie Nichols-Dixon,
Acting Deputy Assistant Secretary for Policy, Programs, and Legislative Initiatives.

[FR Doc. 2010-8554 Filed 4-13-10; 8:45 am]

BILLING CODE 4210-67-P